DEPARTMENT OF ENERGY

Federal Energy Regulatory Commission

[Docket No. ER01-1041-001, et al.]

El Dorado Energy, LLC, et al.; Electric Rate and Corporate Regulation Filings

May 2, 2001.

Take notice that the following filings have been made with the Commission:

1. El Dorado Energy, LLC

[Docket No. ER01-1041-001]

Take notice that on April 27, 2001, El Dorado Energy, LLC (El Dorado) tendered for filing, in compliance with the Commission's order of February 13, 2001, the following sheets of El Dorado's Electric Rate Schedule No. 2.

Substitute First Revised Sheet No. 2

Original Sheet No. 3

Comment date: May 18, 2001, in accordance with Standard Paragraph E at the end of this notice.

2. Pacific Gas and Electric Company

[Docket No. ER01-1230-001]

Take notice that on April 26, 2001, Pacific Gas and Electric Company (PG&E) tendered for filing a Generator Special Facilities Agreement (GFSA) between PG&E and the Duke Energy Moss Landing, LLC (Duke) to correct the rate schedule designation on the GSFA in compliance with the Commission's Letter Order dated April 12, 2001. The Letter Order conditionally accepted the GSFA effective on November 1, 2000, provided that PG&E file the GSFA with the revised rate schedule designation as required in FERC Order No. 614, FERC Stats. & Regs. ¶31,096.

Copies of this filing have been served upon the California Independent System Operator Corporation, Duke and the California Public Utilities Commission.

Comment date: May 17, 2001, in accordance with Standard Paragraph E at the end of this notice.

3. Coral Energy Management, LLC

[Docket No. ER01-1363-001]

Take notice that on April 27, 2001, Coral Energy Management, LLC (Seller) tendered for filing pursuant to the order of the Federal Energy Regulatory Commission (Commission) issued on April 17, 2001, in the above-captioned docket. The Commission's April 17 order accepted Seller's market-based rate filing, conditioned upon Seller, within 15 days of the order, changing the designation of its rate schedule to: Rate Schedule FERC No. 1. Seller's filing reflects this change.

Comment date: May 18, 2001, in accordance with Standard Paragraph E at the end of this notice.

4. Cabrillo Power I LLC El Segundo Power, LLC Long Beach Generation LLC

[Docket No. ER01-1718-001]

Take notice that on April 27, 2001, West Coast Power LLC tendered for filing a redacted long-term power sales agreement (Agreement) between the California Department of Water Resources and Dynegy Power Marketing, Inc., acting as agent for Cabrillo Power I LLC, El Segundo Power, LLC and Long Beach Generation LLC. This filing is an amendment to an unredacted version of the Agreement, which was submitted on April 2, 2001.

Comment date: May 18, 2001, in accordance with Standard Paragraph E at the end of this notice.

5. Commonwealth Edison Company

[Docket No. ER01-1875-000]

Take notice that on April 27, 2001, Commonwealth Edison Company (ComEd) tendered for filing Interconnection Agreements with Elwood Energy II LLC (Elwood II) and Elwood Energy III LLC (Elwood III). ComEd requests an effective date of April 28, 2001 and accordingly seeks waiver of the Commission's notice requirements. Copies of the filing were served on Elwood II, Elwood III and the Illinois Commerce Commission.

Comment date: May 18, 2001, in accordance with Standard Paragraph E at the end of this notice.

6. American Transmission Systems, Inc.

[Docket No. ER01-1880-000]

Take notice that on April 26, 2001, American Transmission Systems, Inc. tendered for filing a Service Agreement to provide Non-Firm Point-to-Point Transmission Service for AES NewEnergy, Inc., the Transmission Customer. Services are being provided under the American Transmission Systems, Inc. Open Access Transmission Tariff submitted for filing by the Federal Energy Regulatory Commission in Docket No. ER99-2647-000. The proposed effective date under the Service Agreement is April 25, 2001 for the above mentioned Service Agreement in this filing.

Comment date: May 17, 2001, in accordance with Standard Paragraph E at the end of this notice.

7. Jersey Central Power & Light Company, Metropolitan Edison Company, Pennsylvania Electric Company

[Docket No. ER01-1881-000]

Take notice that on April 26, 2001, Jersey Central Power & Light Company, Metropolitan Edison Company and Pennsylvania Electric Company (individually doing business as GPU Energy) tendered for filing a Notice of Cancellation of the Service Agreement between GPU Energy and FirstEnergy Trading and Power Marketing Inc. (now FirstEnergy Trading Services, Inc.), FERC Electric Tariff, Original Volume No. 1, Service Agreement No. 96. GPU Energy requests that cancellation be effective the 25th day of June 2001.

Comment date: May 17, 2001, in accordance with Standard Paragraph E at the end of this notice.

8. American Transmission Systems, Inc.

[Docket No. ER01-1882-000]

Take notice that on April 26, 2001, American Transmission Systems, Inc. tendered for filing a Service Agreement to provide Firm Point-to-Point Transmission Service for AES NewEnergy, Inc., the Transmission Customer. Services are being provided under the American Transmission Systems, Inc. Open Access Transmission Tariff submitted for filing by the Federal Energy Regulatory Commission in Docket No. ER99-2647-000.

The proposed effective date under the Service Agreement is April 25, 2001 for the above mentioned Service Agreement in this filing.

Comment date: May 17, 2001, in accordance with Standard Paragraph E at the end of this notice.

9. Jersey Central Power & Light Company, Metropolitan Edison Company, Pennsylvania Electric Company

[Docket No. ER01-1883-000]

Take notice that on April 26, 2001, Jersey Central Power & Light Company, Metropolitan Edison Company and Pennsylvania Electric Company (individually doing business as GPU Energy) tendered for filing a Notice of Cancellation of the Service Agreement between GPU Energy and QST Energy Trading, FERC Electric Tariff, Original Volume No. 1, Service Agreement No. 88. GPU Energy requests that cancellation be effective the 25th day of June 2001.

Comment date: May 17, 2001, in accordance with Standard Paragraph E at the end of this notice.

10. Xcel Energy Operating Companies, Northern States Power Company (Minnesota), Northern States Power Company) (Wisconsin)

[Docket No. ER01-1884-000]

Take notice that on April 26, 2001, Northern States Power Company and Northern States Power Company (Wisconsin) (jointly NSP Companies), wholly owned utility operating company subsidiaries of Xcel Energy, Inc., tendered for filing a Firm Point-to-Point Transmission Service Agreement (Agreement) between the NSP Companies and NSP Energy Marketing. The NSP Companies propose the Agreement be included in the Xcel Energy Operating Companies FERC Joint Open Access Transmission Tariff, Original Volume No. 2, as Service Agreement No. 187-NSP, pursuant to Order No. 614. The NSP Companies also submit Eighth Revised Sheet No. 1 (Table of Contents) to the Joint OATT, Original Volume 2, to reflect inclusion of the Agreement.

The NSP Companies request that the Commission accept the Agreement and Eighth Revised Sheet No. 1 effective May 1, 2001, and request waiver of the Commission's notice requirements as may be necessary for the Agreement to be accepted for filing on the date requested.

Comment date: May 17, 2001, in accordance with Standard Paragraph E at the end of this notice.

11. Ameren Energy Marketing Company

[Docket No. ER01-1885-000]

Take notice that on April 26, 2001, Ameren Energy Marketing Company (AEM) tendered for filing with the Commission of the partial suspension of an existing power sales agreement between AEM and the Illinois Municipal Electric Agency (IMEA) involving service to the City of Sullivan, Illinois (Sullivan).

Copies of this filing have been served on Sullivan, IMEA, and the Illinois Commerce Commission.

Comment date: May 17, 2001, in accordance with Standard Paragraph E at the end of this notice.

12. Virginia Electric and Power Company

[Docket No. ER01-1886-000]

Take notice that on April 26, 2001, Virginia Electric and Power Company (Dominion Virginia Power or the Company) tendered for filing the following: Service Agreement with CMS Marketing, Services and Trading for Firm Point-to-Point Transmission Service designated as Service Agreement No. 317 under the Company's FERC Electric Tariff, Second Revised Vol. No. 5.

The foregoing Service Agreement is tendered for filing under the Open Access Transmission Tariff to Eligible Purchasers effective June 7, 2000. Under the tendered Service Agreement, Dominion Virginia Power will provide point-to-point service to CMS Marketing, Services and Trading under the rates, terms and conditions of the Open Access Transmission Tariff. Dominion Virginia Power requests an effective date of April 26, 2001, the date of filing of the Service Agreements.

Copies of the filing were served upon CMS Marketing, Services and Trading, the Virginia State Corporation Commission, and the North Carolina Utilities Commission.

Comment date: May 17, 2001, in accordance with Standard Paragraph E at the end of this notice.

13. PJM Interconnection, L.L.C.

[Docket No. ER01-1887-000]

Take notice that on April 26, 2001 PJM Interconnection, L.L.C. (PJM), tendered for filing an executed interconnection service agreement between PJM and Hunlock Creek Energy Ventures.

PJM requests a waiver of the Commission's 60-day notice requirement to permit the effective dates agreed to by the parties.

Copies of this filing were served upon Hunlock Creek Energy Ventures and the state regulatory commissions within the PJM control area.

Comment date: May 17, 2001, in accordance with Standard Paragraph E at the end of this notice.

14. PJM Interconnection, L.L.C.

[Docket No. ER01-1888-000]

Take notice that on April 26, 2001, PJM Interconnection, L.L.C. (PJM) tendered for filing amendments to the PJM Open Access Transmission Tariff (PJM Tariff) to conform section B.2(d) of Attachment K of the PJM Tariff to PJM Tariff amendments approved by the Commission in Docket No. ER00-2927-000 that modified how PJM distributes excess accumulations of congestion charges.

PJM requests a waiver of the Commission's 60-day notice requirement to permit an effective date for the amendments of September 1, 2000 consistent with the effective date of the amendments accepted by the Commission in Docket No. ER00-2927-000.

PJM states that it served copies of this filing on all parties of record in Docket No. ER00-2927-000, all PJM members and the state electric regulatory commissions in the PJM control area.

Comment date: May 17, 2001, in accordance with Standard Paragraph E at the end of this notice.

15. Tampa Electric Company

[Docket No. ER01-1895-000]

Take notice that on April 27, 2001, Tampa Electric Company (Tampa Electric) tendered for filing cost support schedules showing an updated daily capacity charge for its scheduled/short-term firm interchange service provided under interchange contracts with each of 17 other utilities. Tampa Electric also tendered for filing updated caps on the charges for emergency and scheduled/short-term firm interchange transactions under the same contracts.

In addition, Tampa Electric tendered for filing a revised transmission loss factor, and revised open access transmission tariff sheets on which the transmission loss factor is stated.

Tampa Electric requests that the updated daily capacity charge and caps on charges, and the revised transmission loss factor and tariff sheets, be made effective as of May 1, 2001, and therefore requests waiver of the Commission's notice requirement.

Tampa Electric states that a copy of the filing has been served upon each of the parties to the affected interchange contracts with Tampa Electric and each party to a service agreement under Tampa Electric's open access tariff, as well as the Florida and Georgia Public Service Commissions.

Comment date: May 18, 2001, in accordance with Standard Paragraph E at the end of this notice.

16. EOPT Power Group Nevada, Inc.

[Docket No. EG01-200-000]

Take notice that on April 26, 2001, EOPT Power Group Nevada, Inc. (Applicant), 2801 Brand Ave., Nampa, Idaho 83867, filed with the Federal Energy Regulatory Commission (Commission) an application for determination of exempt wholesale generator status pursuant to Part 365 of the Commission's regulations.

Applicant, a wholly owned subsidiary of Environmental Oil Processing Technology Corp, intends to own and/or operate an eligible facility in Nevada. The facilities will consist of up to three 10 MW modified G.E. LM 1500 natural gas fired gas turbines, as well as interconnecting transmission facilities necessary to effect sales of electric energy at wholesale.

Comment date: May 23, 2001, in accordance with Standard Paragraph E at the end of this notice. The Commission will limit its consideration of comments to those that concern the adequacy or accuracy of the application.

17. Wells Fargo Bank Northwest, National Association, not in its individual capacity, but solely as Certificate Trustee and Lessor

[Docket No. EG01-201-000]

Take notice that on April 27, 2001, Wells Fargo National Bank Northwest, National Association, not in its individual capacity but solely as Certificate Trustee and Lessor, (Trust) with its principal place of business at 79 South Main Street, Salt Lake City, UT 84111, filed with the Federal Energy Regulatory Commission an application for determination of exempt wholesale generator status pursuant to Part 365 of the Commission's regulations.

The Trust will be owner lessor of up to five (5) natural gas-fueled, simple cycle combustion turbine generating facilities to be located in the service area of Kansas City Power & Light Company (“KCPL”) with an approximate power production capacity of 385 MW. The Trust will lease the Facilities to KCPL. The Facilities are expected to commence commercial operation in June 2003.

Comment date: May 23, 2001, in accordance with Standard Paragraph E at the end of this notice. The Commission will limit its consideration of comments to those that concern the adequacy or accuracy of the application.

18. Mid-Continent Area Power Pool

[Docket Nos. OA97-163-013, ER97-1162-000 and OA97-658-000]

Take notice that on April 27, 2001, the Mid-Continent Area Power Pool (MAPP) notified the Commission of certain procedural changes regarding MAPP Schedule F to the Restated Agreement.

A copy of the notification was served on all parties in the above-referenced proceedings and the state public service commissions located in the MAPP region.

Comment date: May 18, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-11575 Filed 5-7-01; 8:45 am]

BILLING CODE 6717-01-P